DEPARTMENT OF THE INTERIOR

Bureau of Indian Affairs

Indian Gaming

AGENCY: Bureau of Indian Affairs, Interior.

ACTION: Notice of Approved Tribal-State Class III Gaming Compact.

SUMMARY: This notice publishes an extension of the Tribal-State gaming compact between the Oglala Sioux Tribe and the State of South Dakota.

DATES: Effective Date: August 10, 2011.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act of 1988 (IGRA), Public Law 100-497, 25 U.S.C. 2710, the Secretary of the Interior shall publish in the Federal Register notice of approved Tribal-State compacts for the purpose of engaging in Class III gaming activities on Indian lands. This amendment allows for the extension of the current Tribal-State Class III gaming compact between the Oglala Sioux Tribe and the State of South Dakota until December 31, 2011.

Dated: August 2, 2011.
Donald E. Laverdure,
Principal Deputy Assistant Secretary, Indian Affairs.

[FR Doc. 2011-20273 Filed 8-9-11; 8:45 am]

BILLING CODE 4310-4N-P